DEPARTMENT OF COMMERCE

National Oceanic and Atmospheric Administration

50 CFR Part 622

RIN 0648-AY32

Fisheries of the Caribbean, Gulf of Mexico and South Atlantic; Comprehensive Ecosystem-Based Amendment 1

AGENCY: National Marine Fisheries Service (NMFS), National Oceanic and Atmospheric Administration (NOAA), Commerce.

ACTION: Notice of availability (NOA); request for comments.

SUMMARY: The South Atlantic Fishery Management Council (Council) has submitted CE-BA 1 which includes amendments to the following South Atlantic fishery management plans (FMPs): the FMP for Coral, Coral reefs, and Live/Hard Bottom Habitats of the South Atlantic Region (Coral FMP); the FMP for the Dolphin and Wahoo Fishery off the Atlantic States (Dolphin and Wahoo FMP); the FMP for Golden Crab of the South Atlantic Region (Golden Crab FMP); the FMP for the Shrimp Fishery of the South Atlantic Region (Shrimp FMP); and the FMP for the Snapper-Grouper Fishery of the South Atlantic Region (Snapper-Grouper FMP), as prepared and submitted by the South Atlantic Fishery Management Council (Council); as well as the FMP for Coastal Migratory Pelagic (CMP) Resources (CMP FMP); and the FMP for the Spiny Lobster Fishery of the Gulf of Mexico and South Atlantic (Spiny Lobster FMP), as prepared and submitted by the South Atlantic and Gulf of Mexico Fishery Management Councils.

Management actions proposed in CE-BA 1 include the establishment of deepwater Coral Habitat Areas of Particular Concern (CHAPCs) to protect what is currently thought to be the largest distribution (>23,000 square miles) of pristine deepwater coral ecosystems in the world. Actions in the amendment would prohibit the use of bottom damaging fishing gear and allow for the creation of allowable fishing zones within the CHAPCs in the historical fishing grounds of the golden crab and deepwater shrimp fisheries while extending protection for deepwater coral ecosystems. CE-BA 1 would also amend the Coral, Shrimp, Coastal Migratory Pelagics, Golden Crab, Spiny Lobster, Dolphin-Wahoo, and Snapper-Grouper FMPs to provide spatial information on previously designated essential fish habitat (EFH).

DATES: Comments must be received no later than 5 p.m., eastern time, on May 3, 2010.

ADDRESSES: Comments on CE-BA 1, identified by 0648-AY32, may be submitted by any one of the following methods:

• Electronic submissions: Submit all electronic public comments via the Federal rule-making portal: www.regulations.gov

• Mail: Karla Gore, NMFS, Southeast Regional Office, 263 13th Avenue South, St. Petersburg, FL 33701.

• Fax: (727) 824-8308 Attn: Karla Gore.

Instructions: No comments will be posted for public viewing until after the comment period is over. All comments received are a part of the public record and will generally be posted to www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

Copies of CE-BA 1, which includes a final environmental impact statement, a regulatory impact review, a regulatory flexibility analysis, and a fishery impact statement are available from the South Atlantic Fishery Management Council, 4055 Faber Place, Suite 201, North Charleston, SC 29405; telephone 843-571-4366; fax 843-769-4520; e-mail safmc@safmc.net.

FOR FURTHER INFORMATION CONTACT: Karla Gore, telephone: 727-824-5305; fax: 727-824-5308; e-mail: Karla.Gore@noaa.gov.

SUPPLEMENTARY INFORMATION: The fisheries for coastal migratory pelagics; coral, coral reefs, and live/hard bottom habitats; dolphin and wahoo; golden crab; shrimp; spiny lobster; and snapper-grouper off the southern Atlantic states are managed under their respective FMPs. The FMPs were prepared by the Council and are implemented under the authority of the Magnuson-Stevens Fishery Conservation and Management Act (Magnuson-Stevens Act) by regulations at 50 CFR part 622.

Background

Management actions proposed in CE-BA 1 include the establishment of CHAPCs in which the use of bottom damaging fishing gear would be prohibited. These CHAPCs would protect what is currently believed to be the largest distribution (>60,000 square kilometers; >23,000 square miles) of deepwater coral ecosystems in the world. Currently, these areas are relatively undisturbed by the impacts of fishing. The underlying need for this action is to protect deepwater coral ecosystems in the Council's jurisdiction, which are currently thought to be in pristine condition, from future activities that could compromise their condition. Failure to establish and protect these deepwater coral habitats may create negative biological impacts on the deepwater coral ecosystem and associated fauna if destructive fishing practices develop and expand into the deepwater coral ecosystems. CE-BA 1 includes alternatives to determine which areas in the South Atlantic to designate as CHAPCs.

Currently, the only commercial fisheries that operate in the areas are the wreckfish, golden crab, and deepwater shrimp fisheries. The amendment includes alternatives that would allow creation of “allowable golden crab fishing areas” and “shrimp fishery access areas” that would allow these fisheries to continue with little or no negative impacts to deepwater coral ecosystems. The wreckfish fishery would not be impacted by the designations of the CHAPCs.

CE-BA 1 would also address the need for spatial representations of previously designated EFH and EFH-HAPCs. Thus, this document proposes to amend the following fishery management plans (FMPs) to include such EFH and EFH-HAPC spatial information: Coral FMP; CMP FMP; Shrimp FMP; Golden Crab FMP; Spiny Lobster FMP; Dolphin-Wahoo FMP; and the Snapper-Grouper FMP.

The amendment contains alternatives for monitoring the golden crab fishery within the proposed CHAPCs. The Council has selected the “no action” alternative as preferred for this action due to concerns with feasibility and enforcement.

The Council has submitted CE-BA 1 for Secretarial review, approval and implementation. NMFS's decision to approve, partially approve or disapprove CE-BA 1 will be based, in part, on consideration of comments, recommendations, and information received during the comment period on this NOA. A proposed rule will be published in the Federal Register for public comment. After considering public comment on the NOA, and consistency with the Magnuson-Stevens Act and other applicable laws, NMFS will publish a notice of agency action in the Federal Register announcing the Agency's decision to approve, partially approve or disapprove CE-BA 1, and the associated rationale. If approved, the provisions of CE-BA 1 would be specified in a final rule published in the Federal Register.

Consideration of Public Comments

Public comments received by 5 p.m. eastern time on May 3, 2010 will be considered by NMFS in the approval/disapproval decision regarding CE-BA 1.

Authority: 16 U.S.C. 1801 et seq.

Dated: February 26, 2010.
James P. Burgess,
Acting Director, Office of Sustainable Fisheries, National Marine Fisheries Service.

[FR Doc. 2010-4623 Filed 3-3-10; 8:45 am]

BILLING CODE 3510-22-S